DEPARTMENT OF TRANSPORTATION

14 CFR Part 71

[Airspace Docket No. 00-AGL-16]

Modification of Class D Airspace; Gary, IN; and Establishment of Class E Airspace; Gary, IN, Correction

AGENCY: Federal Aviation Administration (FAA), DOT.

ACTION: Final rule; correction.

SUMMARY: This action corrects an error in the type of action taken as described in the final rule that was published in the Federal Register on Wednesday, July 26, 2000 (65 FR 45840), Airspace Docket No. 00-AGL-16. The final rule modified Class D Airspace at Gary, IN, and established Class E Airspace at Gary, IN.

EFFECTIVE DATE: 0901 UTC, October 5, 2000.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 00-18888, Airspace Docket No. 00-AGL-16, published on July 26, 2000 (65 FR 45840), modified Class D Airspace at Gary, IN, and established Class E Airspace at Gary, IN. An error in the type of action taken concerning the Class E airspace was inadvertently made. The action described for the Class E airspace was given as a modification of existing airspace when in fact it is an establishment of new Class E airspace. This action corrects that error.

Correction to Final Rule

Accordingly, pursuant to the authority delegated to me, the description for the type of action taken for the Class E airspace, Gary, IN, published in the Federal Register July 26, 2000 (65 FR 45840), (FR Doc. 00-18888), is corrected as follows:

1. On page 45840, Column 3, in the heading, beginning in line 6, correct “modification of Class E Airspace” to read “Establishment of Class E Airspace”.

2. On page 45840, Column 3, in the SUMMARY, beginning in line 2, correct “modifies Class E airspace” to read “establishes Class E airspace”.

3. On page 45841, Column 1, line 4 from the top of the column, add “creates” before “Class E airspace”.

4. On page 45841, Column 1, under “History”, line 3, add “establish” before “Class E airspace”.

5. On page 45841, Column 1, under “The Rule”, line 2, add “establishes” before “Class E airspace”.

PART 71—[CORRECTED]

§ 71.1 [Corrected]

6. On page 45841, Column 2, under Paragraph 6005, line 1 of the airspace description, correct “AGL IN E5 Gary, IN [Revised]” to read “AGL IN E5 Gary, IN [New]”.

Issued in Des Plaines, Illinois on September 13, 2000.
Douglas F. Powers,
Acting Manager, Air Traffic Division, Great Lakes Region.

[FR Doc. 00-25073 Filed 9-28-00; 8:45 am]

BILLING CODE 4910-13-M